GENERAL SERVICES ADMINISTRATION

[OMB Control No. 3090-0317; Docket No. 2024-0001; Sequence No. 12]

Information Collection; Notarized Document Submittal for System for Award Management Registration

AGENCY: Office of Acquisition Policy, General Services Administration (GSA).

ACTION: Notice; request for comments.

SUMMARY: Under the provisions of the Paperwork Reduction Act, the Regulatory Secretariat Division will be submitting to the Office of Management and Budget (OMB) a request to review and approve an existing OMB clearance regarding a notarized document submittal for System for Award Management (SAM) Registration.

DATES: Submit comments on or before January 21, 2025.

ADDRESSES: Submit comments regarding this burden estimate or any other aspect of this collection of information, including suggestions for reducing this burden to https://www.regulations.gov. Submit comments via the Federal eRulemaking portal by searching for the OMB Control number 3090-0317. Select the link “Comment Now” that corresponds with “Information Collection 3090-0317; Notarized Document Submittal for System for Award Management Registration”. Follow the instructions on the screen. Please include your name, company name (if any), and “Information Collection 3090-0317; Notarized Document Submittal for System for Award Management Registration” on your attached document.

Instructions: Please submit comments only and cite Information Collection 3090-0317; Notarized Document Submittal for System for Award Management Registration, in all correspondence related to this collection. Comments received generally will be posted without change to https://www.regulations.gov, including any personal and/or business confidential information provided. To confirm receipt of your comment(s), please check www.regulations.gov, approximately two-to-three days after submission to verify posting.

FOR FURTHER INFORMATION CONTACT: Ms. Salomeh Ghorbani, Director, IAE Outreach and Stakeholder Engagement Division, at 703-605-3467 or IAE_Admin@gsa.gov.

SUPPLEMENTARY INFORMATION: Federal Acquisition Regulation (FAR) subpart 4.11 prescribes policies and procedures for requiring contractor registration in the System for Award Management (SAM) database to: (1) Increase visibility of vendor sources (including their geographical locations) for specific supplies and services; and (2) establish a common source of vendor data for the Government.

In the past, the GSA Office of Inspector General (OIG) conducted an investigation into fraudulent activities discovered within SAM. Certain bad actors have, through electronic means, used public information to impersonate legitimate entities and established new entity registrations for those entities in SAM. By establishing fraudulent entity registrations, bad actors submitted bids in certain U.S. Government procurement systems or shipped deficient or counterfeit goods to the U.S. Government.

GSA established this information collection request (ICR) to collect additional information to support increased validation of entities registered and registering in the System for Award Management (SAM). This additional information is contained in a notarized letter in which an officer or other signatory authority of the entity formally appoints the Entity Administrator for the entity registering or recertifying in SAM. The original, signed letter is mailed to the Federal Service Desk for SAM prior to the registration's activation or re-registration.

The collection of the notarized letter information is essential to GSA's acquisition mission to meet the needs of all Federal agencies, as well as the needs of the grant community. A key element of GSA's mission is to provide efficient and effective acquisition solutions across the Federal Government. SAM is essential to the accomplishment of that mission. In addition to Federal contracts, Federal assistance programs also rely upon the integrity and security of the information in SAM. Without assurances that the information in SAM is protected and is at minimal risk of compromise, GSA would risk losing the confidence of the Federal acquisition and assistance communities which is serves. As a result, some entities may prefer not to do business with the Federal Government.

B. Annual Reporting Burden

Respondents: 686,400.

Responses per Respondent: 1.

Total Annual Responses: 686,400.

Hours per Response: 2.25.

Total Burden Hours: 1,544,400.

The information collection allows GSA to request the notarized letter and apply this approach to new registrants (an average of 7,200 per month) and to existing SAM registrants (an average of 50,000 re-register per month).

Entities registered and registering in SAM are provided the template for the requirements of the notarized letter. It is estimated that the Entity Administrator will take on average 0.5 hour to create the letter and 0.25 hour to mail the hard copy letter. GSA proposes that an Entity Administrator equivalent to a GS-5, Step 5 Administrative Support person within the Government would perform these tasks. The estimated hourly rate of $24.70 (Base + Locality + Fringe) was used for the calculation.

Based on historical data of the ratio of small entities to other than small entities registering in SAM, GSA approximates 32,200 of the 57,200 new and existing entities (re-registrants) will have in-house resources to notarize documents. GSA proposes that the entities with in-house notaries will typically be large businesses where the projected salary of the executive or officer responsible for signing the notarized letter is on average approximately $150 per hour. The projected time for signature and notarizing the letter internally is 0.5 hour.

The other remaining 25,000 new and existing entities (re-registrants) per month are estimated to be small entities where the projected salary of the executive or officer responsible signing the notarized letter is on average approximately $100 per hour. These entities will more than likely have to obtain notary services from an outside source. The projected time for signature and notarizing the letter externally is 1 hour. The estimate includes a nominal fee ($5.00) usually charged by third- party notaries.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the Regulatory Secretariat Division by calling 202-501-4755 or emailing GSARegSec@gsa.gov. Please cite OMB Control No. 3090-0317, Notarized Document Submittal for System for Award Management Registration, in all correspondence.

Lois Mandell,
Director, Regulatory Secretariat Division.

[FR Doc. 2024-27428 Filed 11-21-24; 8:45 am]

BILLING CODE 6820-WY-P